NEIGHBORHOOD REINVESTMENT CORPORATION

Sunshine Act Meetings

TIME AND DATE: 2:00 p.m., Thursday, December 16, 2021.

PLACE: Via Conference Call.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. Call to Order

II. Executive Session Sunshine Act

III. Executive Session Other Matter

IV. Executive Session: Report from CEO

V. Executive Session: Report from CFO

VI. Executive Session: NeighborWorks Compass™ Update

VII. Action Item Approval of Minutes

VIII. Action Item DC Office Lease Execution

IX. Action Item Events and Training Management System

X. Action Item Large AV Event Services Contract

XI. Action Item $3M JPMorgan Chase Grant Agreement

XII. Discussion Item November 5 Audit Committee Report

XIII. Discussion Item Interim CIO Report

XIV. Discussion Item FY22 Corporate Scorecard

XV. Discussion Item Federal Budget Update

XVI. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2021-26538 Filed 12-3-21; 11:15 am]

BILLING CODE 7570-02-P